DEPARTMENT OF HOMELAND SECURITY

Coast Guard

[USCG-2007-0018]

National Offshore Safety Advisory Committee

AGENCY: Coast Guard, DHS.

ACTION: Notice of meeting.

SUMMARY: The National Offshore Safety Advisory Committee (NOSAC) will meet in Galveston, TX, to discuss various issues relating to offshore safety and security. The meeting will be open to the public.

DATES: NOSAC will meet on Friday, November 16, 2007, from 9 a.m. to 3 p.m. The meeting may close early if all business is finished. Written material and requests to make oral presentations should reach the Coast Guard on or before November 2, 2007. Requests to have a copy of your material distributed to each member of the committee should reach the Coast Guard on or before November 2, 2007.

ADDRESSES: NOSAC will meet in the Davidson Ballroom North of the Tremont House Hotel, 2300 Ship's Mechanic Row, Galveston, Texas. Send written material and requests to make oral presentations to Commander J.M. Cushing, Commandant (CG-5222), U.S. Coast Guard Headquarters, 2100 Second Street, SW., Washington, DC 20593-0001. This notice is available on our online docket, USCG-2007-0018, at http://www.regulations.gov.

FOR FURTHER INFORMATION CONTACT: Commander J.M. Cushing, Executive Director of NOSAC, or Mr. Jim Magill, Assistant Executive Director, telephone 202-372-1414, fax 202-372-1926.

SUPPLEMENTARY INFORMATION: Notice of the meeting is given under the Federal Advisory Committee Act, 5 U.S.C. App.

Agenda of Meeting

The agenda for the November 16, 2007 committee meeting includes the following:

(1) Report on issues concerning the International Maritime Organization (IMO) and the International Organization for Standardization.

(2) Revision of 46 CFR, Subchapter V, Subpart B—Commercial Diving Operations.

(3) MARPOL Annex II Implementation for Offshore Supply Vessels (OSVs).

(4) Revision of IMO Mobile Offshore Drilling Units (MODU) Code.

(5) Sandblasting standard for OCS facilities.

(6) Production industry sector activities.

(7) Transportation Worker Identification Credential (TWIC) impact on offshore facilities.

(8) Revision of 33 CFR, Subchapter N, Outer Continental Shelf Activities.

Procedural

The meeting is open to the public. Please note that the meeting may close early if all business is finished. At the Chair's discretion, members of the public may make oral presentations during the meeting. If you would like to make an oral presentation at the meeting, please notify the Executive Director no later than November 2, 2007. Written material for distribution at the meeting should reach the Coast Guard no later than November 2, 2007. If you would like a copy of your material distributed to each member of the committee in advance of the meeting, please submit 25 copies to the Executive Director no later than November 2, 2007.

Information on Services for Individuals With Disabilities

For information on facilities or services for individuals with disabilities or to request special assistance at the meeting, contact the Executive Director as soon as possible.

Dated: October 17, 2007.
H.L. Hime,
Acting Director of Commercial Regulations and Standards.

[FR Doc. E7-20977 Filed 10-24-07; 8:45 am]

BILLING CODE 4910-15-P